INTERNATIONAL TRADE COMMISSION

[Investigation No. 337-TA-452]

In the Matter of Certain Personal Watercraft and Components Thereof; Notice of Investigation

AGENCY: International Trade Commission.

ACTION: Institution of investigation pursuant to 19 U.S.C. 1337.

SUMMARY: Notice is hereby given that a complaint was filed with the U.S. International Trade Commission on February 6, 2001, under section 337 of the Tariff Act of 1930, as amended, 19 U.S.C. 1337, on behalf of Yamaha Hatsudoki Kabushiki Kaisha, dba Yamaha Motor Company, Ltd. of Iwata, Japan and Sanshin Kohyo Kabushiki Kaisha, dba Sanshin Industries Company, Ltd. of Hamamatsu, Japan. A supplement to the complaint was filed on February 26, 2001. The complaint, as supplemented, alleges violations of section 337 in the importation into the United States, the sale for importation, and the sale within the United States after importation of certain personal watercraft and components thereof by reason of infringement of claims 1-5 and 9-12 of U.S. Letters Patent 5,752,867; claims 1, 2, 3, 8, 11, 15, 18, 19, 21, 22, 41, 42, and 43 of U.S. Letters Patent 5,490,474; claims 1-11 of U.S. Letters Patent 5,619,950; claims 23-27 and 36-40 of U.S. Letters Patent 5,234,364; claims 19-24 of U.S. Letters Patent 5,572,943; claims 1, 2, 11, 12, 13, 16, 17, 19, 20, and 21 of U.S. Letters Patent 5,699,749; claim 9 of U.S. Letters Patent 5,550,337; claim 24 of U.S. Letters Patent 4,811,560; claim 1 of U.S. Letters Patent 4,813,898; claims 23, 40, and 41 of U.S. Letters Patent 5,390,621; and claims 1-9 of U. S. Letters Patent 4,949,684. The complaint further alleges that there exists an industry in the United States as required by subsection (a)(2) of section 337.

The complainants request that the Commission institute an investigation and, after the investigation, issue a permanent exclusion order and a permanent cease and desist order.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS-ON-LINE) at http://dockets.usitc.gov/eol/public.

FOR FURTHER INFORMATION CONTACT: T. Spence Chubb, Esq., Office of Unfair Import Investigations, U.S. International Trade Commission, telephone 202-205-2575.

Authority

The authority for institution of this investigation is contained in section 337 of the Tariff Act of 1930, as amended, and in section 210.10 of the Commission's Rules of Practice and Procedure, 19 CFR 210.10 (2000).

Scope of Investigation

Having considered the complaint, the U.S. International Trade Commission, on March 8, 2001, Ordered That—

(1) Pursuant to subsection (b) of section 337 of the Tariff Act of 1930, as amended, an investigation be instituted to determine whether there is a violation of subsection (a)(1)(B) of section 337 in the importation into the United States, the sale for importation, or the sale within the United States after importation of certain personal watercraft or components thereof by reason of infringement of claims 1-5 or 9-12 of U.S. Letters Patent 5,752,867; claims 1-3, 8, 11, 15, 18, 19, 21, 22, 41, 42, or 43 of U.S. Letters Patent 5,490,474; claims 1-11 of U.S. Letters Patent 5,619,950; claims 23-27 or 36-40 of U.S. Letters Patent 5,234,364; claims 19-24 of U.S. Letters Patent 5,572,943; claims 1, 2, 11, 12, 13, 16, 17, 19, 20, or 21 of U.S. Letters Patent 5,699,749; claim 9 of U.S. Letters Patent 5,550,337; claim 24 of U.S. Letters Patent 4,811,560; claim 1 of U.S. Letters Patent 4,813,898; claims 23, 40, or 41 of U.S. Letters Patent 5,390,621; or claims 1-9 of U. S. Letters Patent 4,949,684; and whether there exists an industry in the United States as required by subsection (a)(2) of section 337.

(2) For the purpose of the investigation so instituted, the following are hereby named as parties upon which this notice of investigation shall be served:

(a) The complainants are—

Yamaha Hatsudoki Kabushiki Kaisha, dba Yamaha Motor Company, Ltd., 2500 Shingai, Iwata, Shizuoka 438-8501, Japan

Sanshin Kohyo Kabushiki Kaisha, dba Sanshin Industries Company, Ltd., 1400 Nipashi, Hamamatsu, Shizuoka 432-8528, Japan

(b) The respondents are the following companies alleged to be in violation of section 337, and are the parties upon which the complaint is to be served:

Bombardier Inc., 800 Rene-Levesque Blvd. West, Montreal, Quebec, Canada H3B 1Y8

Bombardier Motor Corporation of America, 7575 Bombardier Court, P.O. Box 8035, Wausau, Wisconsin 54402-8035

(c) T. Spence Chubb, Esq., Office of Unfair Import Investigations, U.S. International Trade Commission, 500 E Street, SW., Room 401-F, Washington, DC 20436, who shall be the Commission investigative attorney, party to this investigation; and

(3) For the investigation so instituted, the Honorable Debra Morriss is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received no later than 20 days after the date of service by the Commission of the complaint and notice of investigation. Extensions of time for submitting responses to the complaint will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter both an initial determination and a final determination containing such findings, and may result in the issuance of a limited exclusion order or a cease and desist order or both directed against such respondent.

Issued: March 9, 2001.
By order of the Commission.
Donna R. Koehnke,
Secretary.

[FR Doc. 01-6341 Filed 3-13-01; 8:45 am]

BILLING CODE 7020-02-P